NATIONAL SCIENCE FOUNDATION

Proposal Review Panel for Materials Research; Notice of Meeting

In accordance with the Federal Advisory Committee Act (Pub. L. 92-463 as amended), the National Science Foundation announces the following meeting:

Name: Site Visit review of the Nanoscale Science and Engineering Center (NSEC) at the University of Pennsylvania (Committee Code: 1203).

Dates & times: July 7, 2010: 7 p.m.-9 p.m.

July 8, 2010: 8:15 a.m.-9:30 p.m.

July 9, 2010: 8 a.m.-4 p.m.

Place: University of Pennsylvania, Philadelphia, PA.

Type of meeting: Part-open.

Contact person: Dr. David Brant, Program Director, Biomaterials Program, Division of Materials Research, Room 1065, National Science Foundation, 4201 Wilson Boulevard, Arlington, VA 22230, Telephone (703) 292-4941, e-mail dbrant@nsf.gov.

Purpose of meeting: To provide advice and recommendations concerning further support of the NSEC at the University of Pennsylvania (UPenn), Philadelphia, PA.

AGENDA

Wednesday, July 7, 2010

7 pm-9 pm Closed—Executive Session/Dinner.

Thursday, July 8, 2010

8:15 a.m.-4 p.m. Open—Review of the NSEC at UPenn.

4 p.m.-5 p.m. Closed—Executive session.

5 p.m.-5:30 p.m. Open—Panel Asks Clarifying Questions for NSEC Leaders.

5:30 p.m.-7:30 p.m. Open—Poster Session.

7:30 p.m.-9:30 p.m. Closed—Executive Session/Dinner.

Friday, July 9, 2010

8 a.m.-9 a.m. Closed—Executive Session/Breakfast—Director's Response.

9 a.m.-10 a.m. Open—Facilities Overview and Lab Tour.

10 a.m.-3:45 p.m. Closed—Executive Session/Draft and Review Report.

3:45 p.m.-4 p.m. Closed—Debriefing with NSEC Leaders.

Reason for closing: The work being reviewed may include information of a proprietary or confidential nature, including technical information; financial data, such as salaries and personal information concerning individuals associated with the proposals. These matters are exempt under 5 U.S.C. 552 b(c), (4) and (6) of the Government in the Sunshine Act.

Dated: June 15, 2010.
Susanne Bolton,
Committee Management Officer.

[FR Doc. 2010-14723 Filed 6-17-10; 8:45 am]

BILLING CODE 7555-01-P